INTERNATIONAL TRADE COMMISSION

[Investigation Nos. 701-TA-606 and 731-TA-1416 (Final)]

Quartz Surface Products From China; Revised Schedule of the Final Phase of Countervailing Duty and Anti-Dumping Duty Investigations

AGENCY: United States International Trade Commission.

ACTION: Notice.

DATES: February 6, 2019.

FOR FURTHER INFORMATION CONTACT: Lawrence Jones (202-205-3358), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On November 20, 2018, the Commission established a schedule for the conduct of the final phase of countervailing duty and antidumping duty investigations (83 FR 64597, December 17, 2018). Due to the lapse in appropriations and ensuing cessation of Commission operations, the Commission is revising its schedule.

The Commission's revised dates in the schedule are as follows: The prehearing staff report will be placed in the nonpublic record on April 25, 2019; the deadline for filing prehearing briefs is May 2, 2019; a prehearing conference, if deemed necessary, and requests to appear at the hearing should be filed on or before May 6, 2019; the hearing is on Thursday, May 9, 2019 at 9:30 a.m.; the deadline for filing posthearing briefs and for written statements from any person who has not entered an appearance as a party is May 16, 2019; final release of information is on June 5, 2019; and final party comments are due on June 7, 2019.

For further information concerning these investigations, see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: February 7, 2019.
Lisa Barton,
Secretary to the Commission.

[FR Doc. 2019-02075 Filed 2-11-19; 8:45 am]

BILLING CODE 7020-02-P